DEPARTMENT OF AGRICULTURE

Rural Business-Cooperative Service

Notice of a National Public Stakeholder Forum on the Rural Energy for America Program

AGENCY: Rural Business-Cooperative Service, USDA.

ACTION: Notice of public meeting.

SUMMARY: The Rural Business-Cooperative Service (RBS), an Agency within the USDA Rural Development Mission area, will hold an informational meeting, entitled “Rural Energy for America Program (REAP) National Stakeholder Forum,” associated with the recently published REAP rule and notice. The Stakeholder forum is open to the public, and participation can be in person or via webinar.

DATES: The Stakeholder Forum will be held on February 6, 2015, from 1 p.m. to 3 p.m. EDT. There will be two sessions with a short break in between. Session one will focus on the program changes to the grant and guaranteed loan components of REAP as a result of the recently published REAP rule and enactment of the 2014 Farm Bill. Session two will include a panel of guests who will discuss opportunities and successes within REAP. A question and answer session will follow the panel discussion.

For those wishing to attend in person, seating will be available on a first come first serve basis. You must register, as described in the Instructions for Attending the Meeting in Person section, by noon EDT February 4, 2015.

ADDRESSES: The Stakeholder Forum will take place in room 107-A of the Whitten Building on Jefferson Drive SW., located between 12th and 14th Streets SW., in Washington, DC 20250. For webinar participation, you must register for the webinar at https://www.webcaster4.com/Webcast/Page/694/7209 prior to or during the webinar.

FOR FURTHER INFORMATION CONTACT: Venus Welch-White, Rural Business-Cooperative Service, Room 6870, 1400 Independence Avenue SW., Washington, DC 20250-3221, Telephone: (202) 720-0400. Email: venus.welchwhite@wdc.usda.gov.

SUPPLEMENTARY INFORMATION: The REAP final rule and accompanying notice were published in the Federal Register on December 29, 2014 (http://www.gpo.gov/fdsys/pkg/FR-2014-12-29 (December 29, 2014, page 78029)). In order to familarize the public with the changes to the REAP rule, representatives of the Department of Agriculture are conducting a National Stakeholder Forum.

The purpose of this forum is to provide information on the final rule for the Rural Energy for America Program, focusing on the changes associated with application submittal, scoring, funding, and other program information. Participants will be afforded the opportunity to ask questions on the material in the presentation through the webinar software.

Date: February 6, 2015.

Time: 1 p.m.-3 p.m.

Location information: USDA headquarters, in the Whitten Building, 1400 Jefferson Drive SW., Room 107-A, Washington, DC 20250.

Webinar registration information can be found at https://www.webcaster4.com/Webcast/Page/694/7209. Participants are responsible for ensuring their systems are compatible with the webinar software.

Instructions for Attending the Meeting In Person: Space for attendance at the meeting is limited. Due to USDA headquarters security and space requirements, all persons wishing to attend the public meeting in person, must send an email to energydivision@wdc.usda.gov by noon EDT February 4, 2015, to register the names of those planning to attend. Registrations will be accepted until maximum room capacity is reached. To register, provide the following information:

• First Name

• Last Name

• Organization

• Title

• Email

• City

• State

Upon arrival at the USDA Whitten Building, registered persons must provide valid photo identification in order to enter the building; visitors need to enter the Whitten Building on the mall side. Please allow extra time to get through security.

Nondiscrimination Statement: The U.S. Department of Agriculture (USDA) prohibits discrimination in all its programs and activities on the basis of race, color, national origin, age, disability, and where applicable, sex, marital status, familial status, parental status, religion, sexual orientation, genetic information, political beliefs, reprisal, or because of all or part of an individual's income is derived from any public assistance program. (Not all prohibited bases apply to all programs.) Persons with disabilities who require alternative means for communication of program information (Braille, large print, audiotape, etc.) should contact USDA's TARGET Center at (202) 720-2600 (voice and TDD).

If you wish to file a Civil Rights program complaint of discrimination, complete the USDA Program Discrimination Complaint Form, found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov. Individuals who are deaf, hard of hearing, or have speech disabilities and you wish to file a program complaint please contact USDA through the Federal Relay Service at (800) 877-8339 or (800) 845-6136 (in Spanish). USDA is an equal opportunity provider and employer. The full “Non-Discrimination Statement” is found at: http://www.usda.gov/wps/portal/usda/usdahome?navtype=FT&navid=Non_Discrimination.

Dated: January 28, 2015.
Thomas E. Hannah,
Acting Administrator, Rural Business-Cooperative Service.

[FR Doc. 2015-02032 Filed 2-2-15; 8:45 am]

BILLING CODE 3410-XY-P